DEPARTMENT OF TRANSPORTATION

Federal Highway Administration

[Docket No. FHWA-2016-0015]

Emergency Route Working Group—Amended Notice of Public Meeting

AGENCY: Federal Highway Administration (FHWA); DOT.

ACTION: Notice of public meeting.

SUMMARY: This notice amends the time, date, and location of the third meeting of the Emergency Route Working Group (ERWG).

DATES: The third public meeting will be held on Wednesday, March 15, 2017, from 9 a.m. to 5 p.m., e.t., and Thursday, March 16, 2017, from 9 a.m. to 3 p.m.

ADDRESSES: Both sessions of this public meeting will be held at the Edison Electric Institute, 701 Pennsylvania Avenue NW., Washington, DC 20004.

FOR FURTHER INFORMATION CONTACT: Crystal Jones, FHWA Office of Freight Management and Operations, (202) 366-2976, or via email at Crystal.Jones@dot.gov or erwg@dot.gov. For legal questions, contact Seetha Srinivasan, FHWA Office of the Chief Counsel, (202) 366-4099 or via email at Seetha.Srinivasan@dot.gov. Office hours for FHWA are from 8:00 a.m. to 4:30 p.m., e.t., Monday through Friday, except Federal holidays.

SUPPLEMENTARY INFORMATION:

Electronic Access

An electronic copy of this notice may be downloaded from the Federal Register's home page at: http://www.archives.gov; the Government Publishing Office's database at: https://www.gpo.gov/fdsys/; or the specific docket page at: www.regulations.gov.

Background

Amended date and location for the third ERWG meeting: Pursuant to the Federal Advisory Committee Act, FHWA's Office of Freight Management and Operations issued a notice for three meetings in the Federal Register at 81 FR 95266. The FHWA has held two of the three announced public meetings. The third meeting was originally scheduled for Thursday, March 16, 2017, from 8:30 a.m. to 4 p.m., e.t., at DOT Headquarters. This meeting has been rescheduled for Wednesday, March 15, 2017, from 9 a.m. to 5 p.m., e.t., and Thursday, March 16, 2017, from 9 a.m. to 3 p.m., at the Edison Electric Institute in Washington, DC.

Minutes and Public Participation: This meeting is open to the public. Procedure for public comment is available in the original meeting notice. An electronic copy of the minutes from all three ERWG meetings will be available for download within 60 days of each meeting at: http://ops.fhwa.dot.gov/fastact/erwg/index.htm.

Authority: Section 5502 of Pub. L. 114-94; 5 U.S.C. Appendix 2; 41 CFR 102-3.65; 49 CFR 1.85.

Issued on: February 27, 2017.
Walter C. Waidelich, Jr.,
Acting Deputy Administrator, Federal Highway Administration.

[FR Doc. 2017-04056 Filed 2-27-17; 4:15 pm]

BILLING CODE 4910-22-P